INTERNATIONAL TRADE COMMISSION

[Investigation No. 337-TA-446]

In the Matter of Certain Ink Jet Print Cartridges and Components Thereof; Notice of Issuance of Limited Exclusion Order and Cease and Desist Orders; Termination of the Investigation

AGENCY: U.S. International Trade Commission.

ACTION: Notice.

SUMMARY: Notice is hereby given that the U.S. International Trade Commission determined to reverse-in-part the presiding administrative law judge's (“ALJ”) initial determination (“ID”) of January 25, 2002, in the above-captioned investigation, and determined that the accused devices infringe claim 4 of U.S. Letters Patent 4,635,073 (“the ‘073 patent”), and that complainant Hewlett-Packard Company (“HP”) has satisfied the technical prong of the domestic industry requirement with respect to the ‘073 patent. Having found a violation of section 337 of the Tariff Act of 1930, 19 U.S.C. 1337, the Commission issued a limited exclusion order and cease and desist orders, and terminated the investigation.

FOR FURTHER INFORMATION CONTACT: Peter L. Sultan, Esq., Office of the General Counsel, U.S. International Trade Commission, 500 E Street, SW., Washington, DC 20436, telephone 202-205-3094. Copies of the limited exclusion order and cease and desist order and all other nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS-ON-LINE) at http://dockets.usitc.gov/eol.public. Hearing-impaired persons are advised that information on the matter can be obtained by contacting the Commission's TDD terminal on 202-205-1810.

SUPPLEMENTARY INFORMATION: The Commission instituted this investigation on the basis of a complaint filed by HP, alleging a violation of section 337 of the Tariff Act of 1930 in the importation and sale of certain ink jet print cartridges and components thereof by reason of infringement of U.S. Letters Patent 4,827,294; 4,635,073 (“the '073 patent”); 4,680,859; 4,872,027; 4,992,802; and 5,409,134. The complaint named five respondents: Microjet Technology Co., Ltd. of Taipei, Taiwan; Printer Essentials of Reno, Nevada; Price-Less Inkjet Cartridge Company of Port Charlotte, Florida (“Price Less”); Cartridge Hut and Paperwork Plus of Sun City, California (“Cartridge Hut”); and ABCCo.net, Inc. of Port Charlotte, Florida (“ABC”). The investigation was later terminated on the basis of consent order agreements with respect to Printer Essentials and Cartridge Hut.

The ALJ issued his final ID, along with a recommended determination on remedy and bonding, on January 25, 2002. He concluded that there was a violation of section 337, based on the following findings: (a) that the asserted claims of all of the patents at issue, except for claim 4 of the '073 patent, are infringed by respondents Microjet, Price-Less and ABC; and (b) that an industry exists in the United States that exploits each of the patents in issue, except the '073 patent. The ALJ recommended a bond of 100% of entered value during the Presidential review period, and a limited exclusion order issue against Microjet, and cease and desist orders against Price-Less and ABC.

On March 7, 2002, the Commission determined (1) to review the ALJ's construction of claim 4 of the '073 patent and his findings of no infringement and no domestic industry with respect to the ‘073 patent; (2) not to review the remainder of the ID. On review, the Commission determined that the accused devices infringe claim 4 of the '073 patent, and that complainant HP has satisfied the technical prong of the domestic industry requirement with respect to the '073 patent.

The Commission found that each of the statutory requirements has been met for the issuance of a limited exclusion order with respect to respondent Microjet, and for the issuance of a cease and desist order with respect to respondents Price-Less and ABC. The Commission further determined that the public interest factors enumerated in section 337(g)(1) did not preclude the issuance of such relief. Finally, the Commission determined that bond under the limited exclusion order during the Presidential review period shall be in the amount of one hundred (100) percent of the entered value of the imported articles.

This action is taken under the authority of section 337 of the Tariff Act of 1930, 19 U.S.C. 1337, and section 210.45 of the Commission's Rules of Practice and Procedure, 19 CFR 210.45.

Issued: April 25, 2002.
By order of the Commission.
Marilyn R. Abbott,
Secretary.

[FR Doc. 02-10775 Filed 4-30-02; 8:45 am]

BILLING CODE 7020-02-P